Proclamation 10902 of March 9, 2025

U.S. Hostage and Wrongful Detainee Day, 2025

By the President of the United States of America

A Proclamation

On this U.S. Hostage and Wrongful Detainee Day, we send our love, prayers, and support to every American being held in captivity—and I vow to you, your families, and your loved ones that we will never forget you, we will never abandon you, and we commit to returning you safely home and bringing your captors to justice.

As President, I have no higher obligation than to keep American citizens free, safe, and secure. My Administration is proudly taking decisive action to bring Americans back home where they belong. Since taking office, I have secured the release of 13 Americans held captive. Six of those Americans imprisoned in Venezuela are now safely home with their families, and we had them released in less than 24 hours. Two Americans detained in Afghanistan have been liberated. Two Americans detained in Belarus have been returned safely back home. A Pennsylvania teacher, unjustly held in Russia, is back on American soil, fulfilling a promise I made to his 95-year-old mother moments before taking the stage that fateful day in Butler, Pennsylvania. Additionally, two American-Israeli citizens who endured months in Hamas captivity have been reunited with their loved ones.

However, there are still Americans who need to come home. Every American held unjustly abroad must be released and returned home. The United States will not tolerate the unlawful detention of our citizens. I will continue to bring more Americans back to their loved ones, and I will not back down until they are home.

Today, we solemnly stand with every American being held hostage or wrongfully detained and their families who are enduring bitter uncertainty. We commit to forging a future rooted in the commonsense principle of peace through strength. Above all, we ask Almighty God to keep our hostages and wrongful detainees safe; to reunite them with their families; and to make America stronger, safer, more secure, and more prosperous than ever before.

The Congress, by Public Law 118-31 approved December 22, 2023, has designated March 9 of each year as “U.S. Hostage and Wrongful Detainee Day.”

NOW, THEREFORE, I, DONALD J. TRUMP, President of the United States of America, do hereby proclaim March 9, 2025, as U.S. Hostage and Wrongful Detainee Day. On this day, as we fly the Hostage and Wrongful Detainee flag at the White House, I call upon the people of the United States to observe this day with relevant programs, ceremonies, and activities.

IN WITNESS WHEREOF, I have hereunto set my hand this ninth day of March, in the year of our Lord two thousand twenty-five, and of the Independence of the United States of America the two hundred and forty-ninth.

[FR Doc. 2025-04105

Filed 3-11-25; 11:15 am]

Billing code 3395-F4-P